FEDERAL COMMUNICATIONS COMMISSION

[FR ID 71104]

Wireless Telecommunications Bureau and Public Safety and Homeland Security Bureau Extend the Date for the Acceptance and Processing of Certain Applications for 470-512 MHz (T-Band) Spectrum

AGENCY: Federal Communications Commission.

ACTION: Notice.

SUMMARY: In this Public Notice, the Public Safety and Homeland Security Bureau and Wireless Telecommunications Bureau (collectively the Bureaus) extend the period for accepting certain applications for 470-512 MHz (T-Band) spectrum until April 1, 2022.

DATES: The Bureaus issued the Public Notice on December 17, 2021.

FOR FURTHER INFORMATION CONTACT: Brian Marenco, Electronics Engineer, Policy and Licensing Division, Public Safety and Homeland Security Bureau, (202) 418-0838 or via email at Brian.Marenco@fcc.gov, and Joshua Smith, Mobility Division, Wireless Telecommunications Bureau, (717) 338-2502 or via email at Joshua.Smith@fcc.gov.

SUPPLEMENTARY INFORMATION: This is a summary of the Commission's Public Notice, DA 21-1596, released on December 17, 2021. The complete text of this document is available for inspection and copying during normal business hours in the FCC Reference Information Center, 45 L Street NE, Washington, DC 20554. Effective March 19, 2020, and until further notice, the Commission no longer accepts any hand or messenger delivered filings. This is a temporary measure taken to help protect the health and safety of individuals, and to mitigate the transmission of COVID-19. See FCC Announces Closure of FCC Headquarters Open Window and Change in Hand-Delivery Policy, Public Notice, DA 20-304 (March 19, 2020). https://www.fcc.gov/document/fcc-closes-headquarters-open-window-and-changes-hand-delivery-policy. During the time the Commission's building is closed to the general public and until further notice.

1. On January 19, 2021, the Bureaus released a Public Notice establishing a 90-day period from March 22, 2021 until June 21, 2021 for accepting certain Part 22 and Part 90 applications for facilities in the T-Band. The Bureaus limited applications to incumbent licensees to ensure orderly resumption of the application and licensing processes following suspension on acceptance of certain T-Band applications in 2012. On June 21, 2021, the Bureaus extended the incumbent-only filing window until Dec. 19, 2021.

2. On December 17, 2021, the Bureaus released a Public Notice extending the period limiting applications to incumbent licensees to April 1, 2022 while staff continues working on ways to improve the orderly resumption of the application and licensing processes for the T-Band.

3. The Bureaus noted in the Public Notice that the decision to extend the date for acceptance of certain T-Band applications is procedural in nature, and therefore not subject to the notice and comment and effective date requirements of the Administrative Procedure Act. Moreover, the Bureaus found there is good cause for not delaying the effect of the extension until after publication of the Public Notice in the Federal Register since such a delay would be impractical, unnecessary, and contrary to the public interest because it would undercut the purposes of the extension.

Federal Communications Commission.
David Furth,
Deputy Chief, Public Safety and Homeland Security Bureau.

[FR Doc. 2022-03451 Filed 2-16-22; 8:45 am]

BILLING CODE 6712-01-P